DEPARTMENT OF DEFENSE

Department of the Army, Corps of Engineers

Intent To Prepare a Draft Integrated Feasibility Report-Environmental Impact Statement for the Memphis Metropolitan Stormwater Management Project: North DeSoto County, Mississippi Feasibility Study

AGENCY: U.S. Army Corps of Engineers, Department of Defense.

ACTION: Notice of intent.

SUMMARY: Pursuant to the National Environmental Policy Act (NEPA), the U.S. Army Corps of Engineers (USACE), Memphis District, as the lead agency intends to prepare a Draft Integrated Feasibility Report and Environmental Impact Statement (DIFR-EIS) for the Memphis Metropolitan Stormwater Management Project: North DeSoto County, Mississippi Feasibility Study. The DIFR-EIS seeks to evaluate the effectiveness of existing Federal and non-Federal improvements; to determine the need for additional improvements to reduce the risk of flooding from storm water, restore environmental resources, and improve the quality of water entering the Mississippi River and its tributaries; and to determine if such improvements are technically feasible, environmentally acceptable, and economically justified.

DATES: This Notice of Intent commences the formal public scoping comment period. No later than August 16, 2019, a scoping meeting notice announcing the location, date, and time for a scoping meeting will be posted on the project website (https://www.mvm.usace.army.mil/Missions/Projects/North-DeSoto-County-Feasibility-Study/) and published in local newspapers. Initial scoping comments should be received by October 15, 2019.

ADDRESSES: Written comments may be submitted: (1) To USACE at public scoping meetings; (2) by regular U.S. Mail mailed to: U.S. Army Corps of Engineers, ATTN: CEMVN-PDC-UDC, 167 North Main Street, Room B-202, Memphis, Tennessee 38103-1894; and (3) by email to: Andrea.L.Carpenter@usace.army.mil. Please include your name and return address on the first page of your written comments.

FOR FURTHER INFORMATION CONTACT: Questions or comments about the proposed action or requests to be added to the project mailing list should be directed to Andrea Carpenter, 167 North Main Street, Room B202, Memphis, Tennessee 38103, Andrea.L.Carpenter@usace.army.mil, or (901) 544-0817. For additional information, please visit the following: https://www.mvm.usace.army.mil/Missions/Projects/North-DeSoto-County-Feasibility-Study/.

SUPPLEMENTARY INFORMATION: The lead agency for this proposed action is the USACE. The DeSoto County Government is the non-Federal sponsor.

Authority. The USACE is preparing the DIFR-EIS under the authority of the United States House of Representatives Committee on Transportation and Infrastructure adopted a Resolution on March 7, 1996.

Memphis Metro Area

The Secretary of the Army reviewed the report of the Chief of Engineers on the Wolf River and Tributaries, Tennessee and Mississippi, published as House Document Numbered 76, Eighty-fifth Congress, and other pertinent reports, to determine whether any modifications of the recommendations contained therein are advisable at this time, with particular reference to the need for improvements for flood control, environmental restoration, water quality, and related purposes associated with storm water runoff and management in the metropolitan Memphis, Tennessee, area and tributary basins including Shelby, Tipton, and Fayette counties, Tennessee, and DeSoto and Marshall counties, Mississippi. This area includes the Hatchie River, Loosahatchie River, Wolf River, Nonconnah Creek, Horn Lake Creek, and Coldwater River basins. The review shall evaluate the effectiveness of existing Federal and non-Federal improvements and determine the need for additional improvements to reduce the risk of flooding from storm water, to restore environmental resources, and to improve the quality of water entering the Mississippi River and its tributaries.

1. Background. Flooding within DeSoto County, Mississippi, has been an issue of concern and repeated study since at least 1971 with the Soil Conservation Service Watershed Report and continuing through the present. The Horn Lake Creek and Tributaries, Tennessee and Mississippi Project was constructed in 1998. Construction of the 1986 authorized project (as revised per the 1988 General Design Memorandum) was completed in 1998 per a Project Cooperation Agreement between the Horn Lake Creek Drainage District Commission and the U.S. Army Corps of Engineers. The completed project included: 3.5 miles of selective channel clearing on Horn Lake Creek from Mile 16.75 downstream to Stateline Road, Mile 13.25; 2.75 miles of vegetative clearing on upper Horn Lake Creek between Mile 16.75 and 19.50 (Highway 51); vegetative clearing on the lower 0.62 miles of Cow Pen Creek; 1.85 miles of channel enlargement on Cow Pen Creek between Mile 0.62 and 2.47, requiring a 35-foot bottom width channel enlargement; 2.1 miles of vegetative clearing on the lower end of Rocky Creek downstream to the mouth. The constructed project provided a 25-year level of protection to existing development along Cow Pen Creek; a 1.1-year level of protection along Horn Lake Creek; and a 1.1 to 2- year level of protection along Rocky Creek. Although hiking/biking trails were proposed along Rocky Creek and Cow Pen Creek, these trails have not been constructed to date. More recently, damaging floods occurred in the area in May 2010, May 2011, September 2014, and March 2016. The area received a Presidential Disaster Declaration in 2011. In DeSoto County, the U.S. Small Business Administration provided federal assistance in the area after the 2014 flood. Flooding inundates major transportation corridors and several neighborhoods, isolates communities, damages public infrastructure and development (residential, commercial and industrial), and threatens life safety. In the area, unstable channels, lack of suitable riparian cover, altered flow regime, and loss of wetlands and floodplains all degrade habitat in the area. Commercial and residential development has reduced floodplain and aquatic habitat. Wetland habitat and bottomland hardwoods have been isolated and degraded. Increased runoff is causing channel instability, scouring and degradation of aquatic habitat.

2. Alternatives: The USACE will evaluate a range of alternatives for the proposed action including structural and nonstructural measures within Horn Lake Creek and Tributaries, Hurricane Creek Basin, Johnson Creek Basin, and Coldwater River and Tributaries. Retention and/or detention structures to reduce the flood peak and floodplain restoration in critical reaches are being examined along with other features. Recreation features such as biking and hiking trails will be considered as appropriate.

The USACE will fully evaluate the reasonable and practicable alternatives, including the no action alternative. Alternatives may necessitate avoidance, minimization, and/or compensatory mitigation measures to reduce or offset any impacts. The DIFR-EIS seeks to evaluate the effectiveness of existing Federal and non-Federal improvements and determine the need for additional improvements to reduce the risk of flooding from storm water, to restore environmental resources, and to improve the quality of water entering the Mississippi River and its tributaries and if such improvements are technically feasible, environmentally acceptable, and economically justified. The study will also consider other levels of risk reduction. The significant issues that are likely to be analyzed in depth in the DIFR-EIS include, but are not limited to, the direct, indirect, and cumulative effects on socioeconomics; environmental justice; threatened and endangered species and their critical habitat; other protected species of concern; wildlife resources; air and water quality; prime and unique farmlands; geology and soils; hydrology and hydraulics; cultural resources; recreation; aesthetics and visual resources; and hazardous, toxic and radioactive waste. USACE will also consider issues identified and comments made throughout scoping, public involvement, and interagency coordination.

3. Public Involvement: Public involvement, an essential part of the NEPA process, is integral to assessing the environmental consequences of the proposed action and improving the quality of the environmental decision making. The public includes affected and interested Federal, state, and local agencies; Indian tribes; concerned citizens; stakeholders; and other interested parties. Public participation in the NEPA process will be strongly encouraged, both formally and informally, to enhance the probability of a more technically accurate, economically feasible, and socially acceptable EIS. Public involvement will include, but is not limited to: information dissemination; identification of problems, needs and opportunities; idea generation; public education; problem solving; providing feedback on proposals; evaluation of alternatives; conflict resolution; public and scoping notices and meetings; public, stakeholder and advisory groups consultation and meetings; and making the EIS and supporting information readily available in conveniently located places, such as libraries and on the world wide web at https://www.mvm.usace.army.mil/Missions/Projects/North-DeSoto-County-Feasibility-Study/.

4. Scoping: Scoping, is the NEPA process utilized for determining the range of alternative and significant issues to be addressed in the EIS. Scoping is used to: (a) Identify the affected public and agency concerns; (b) facilitate an efficient EIS preparation process; (c) define the issues and alternatives that will be examined in detail in the EIS; and (d) save time in the overall process by helping to ensure that the draft EIS adequately addresses relevant issues. USACE invites full public participation to promote open communication on the issues surrounding the proposed action. The public will be involved in the scoping and evaluation process through advertisements, notices, and other means. A Scoping Meeting Notice announcing the locations, dates and times for scoping meetings is anticipated to be posted on the project website, and published in the local newspapers no later than 15 days prior to the meeting dates. Notices of the public scoping meetings will be sent by USACE through email distribution lists, posted on the Project website, and mailed to public libraries, government agencies, and interested groups and individuals. Interested parties unable to attend the scoping meetings can access additional information on DIFR-EIS at: https://www.mvm.usace.army.mil/Missions/Projects/North-DeSoto-County-Feasibility-Study/.

5. Coordination: The USACE will serve as the lead Federal agency in the preparation of the EIS. Other federal and/or state agencies may participate as cooperating and/or commenting agencies throughout the EIS process.

In accordance with Executive Order 13807, referred to as One Federal Decision (OFD), the USACE and other agencies with environmental review, authorization, or consultation responsibilities for major infrastructure projects should develop a single EIS for such projects, sign a single Record of Decision (ROD) and issue all necessary authorizations within 90 days thereafter, subject to limited exceptions. An essential element of the OFD framework is the development of a schedule, referred to as the “Permitting Timetable,” including key milestones critical to completion of the environmental review and issuance of a ROD. Cooperating agencies required by law to develop schedules for environmental review or authorization processes should transmit a summary of such schedules to the lead agency for integration into the Permitting Timetable.

To ensure timely completion of the environmental review and issuance of necessary authorizations, OMB and CEQ recommend the Permitting Timetable for major infrastructure projects provide for environmental review according to the following schedule:

(1) Formal scoping and preparation of a Draft EIS (DEIS) within 14 months, beginning on the date of publication of the NOI to publish an EIS and ending on the date of the Notice of Availability of the DEIS;

(2) Completion of the formal public comment period and development of the Final EIS (FEIS) within eight months of the date of the Notice of Availability of the DEIS; and

(3) Publication of the final ROD within two months of the publication of the Notice of Availability of the FEIS.

While the actual schedule for any given project may vary based upon the circumstances of the project and applicable law, agencies should endeavor to meet the two-year goal established in E.O. 13807.

The USACE is coordinating with the U.S. Fish and Wildlife Service (USFWS) in documenting existing conditions and assessing effects of project alternatives through the Fish and Wildlife Coordination Act and pursuant to Section 7 of the Endangered Species Act. Coordination includes the U.S. Environmental Protection Agency and the Mississippi Department of Environmental Quality pursuant to Section 401 of the Clean Water Act, and the Mississippi Department of Wildlife Fisheries and Parks. The USACE is coordinating with the State Historic Preservation Officer under Section 106 of the National Historic Preservation Act concerning properties listed, or potentially eligible for listing.

6. Availability: The DIFR-EIS is expected to be available for public comment and review in January 2020. At that time, a 45-day public review period will be provided for individuals and agencies to review and comment. USACE will notify all interested agencies, organizations, and individuals of the availability of the draft document at that time. All interested parties are encouraged to respond to this notice and provide a current address if they wish to be notified of the DIFR-EIS circulation.

Dated: August 2, 2019. Approved by:
Zachary L. Miller,
Colonel, Corps of Engineers District Commander.

[FR Doc. 2019-17129 Filed 8-8-19; 8:45 am]

BILLING CODE 3720-58-P